DEPARTMENT OF TRANSPORTATION

Federal Aviation Administration

Notice of Submission Deadline for Schedule Information for O'Hare International Airport, John F. Kennedy International Airport, and Newark Liberty International Airport for the Summer 2011 Scheduling Season

AGENCY: Federal Aviation Administration (FAA), Department of Transportation.

ACTION: Notice of submission deadline.

SUMMARY: Under this notice, the FAA announces the submission deadline of October 14, 2010, for Summer 2011 flight schedules at Chicago's O'Hare International Airport (ORD), New York's John F. Kennedy International Airport (JFK), and Newark Liberty International Airport (EWR) in accordance with the International Air Transport Association (IATA) Worldwide Scheduling Guidelines. The deadline coincides with the schedule submission deadline for the IATA Schedules Conference for the Summer 2011 scheduling season.

SUPPLEMENTARY INFORMATION: The FAA has designated ORD as an IATA Level 2, Schedules Facilitated Airport, and JFK and EWR as Level 3, Coordinated Airports. Scheduled operations at JFK and EWR are currently limited by the FAA by orders until October 29, 2011.¹

¹ Operating Limitations at John F. Kennedy International Airport. 73 FR 3,510 (Jan. 18, 2008). 74 FR 51650 (Oct. 7, 2009). Operating Limitations at Newark Liberty International Airport. 73 FR 29,550 (May 21, 2008). 74 FR 51648 (Oct. 7, 2009).

The FAA is primarily concerned about planned passenger and cargo operations during peak hours but carriers may submit schedule plans for the entire day. At ORD, the peak hours are 7 a.m. to 9 p.m. Central Time (1200-0200 UTC) and at EWR and JFK from 6 a.m. to 11 p.m. Eastern Time (1000-0300 UTC). Carriers should submit schedule information in sufficient detail including, at minimum, the operating carrier, flight number, scheduled time of operation, frequency, and effective dates. IATA standard schedule information format and data elements (Standard Schedules Information Manual) may be used.

The U.S. summer scheduling season for these airports is from March 27, 2011, through October 29, 2011, in recognition of the IATA scheduling season dates. The FAA understands there may be differences in schedule times due to different U.S. daylight saving time dates, and these will be accommodated to the extent possible.

DATES: Schedules must be submitted no later than October 14, 2010.

ADDRESSES: Schedules may be submitted by mail to the Slot Administration Office, AGC-200, Office of the Chief Counsel, 800 Independence Ave., SW., Washington, DC 20591; facsimile: 202-267-7277; ARINC: DCAYAXD; or by e-mail to: 7-AWA-slotadmin@faa.gov.

FOR FURTHER INFORMATION CONTACT: Robert Hawks, Office of the Chief Counsel, Federal Aviation Administration, 800 Independence Avenue, SW., Washington, DC 20591; telephone number: 202-267-7143; fax number: 202-267-7971; e-mail: rob.hawks@faa.gov.

Issued in Washington, DC, on September 16, 2010.
Rebecca B. MacPherson,
Assistant Chief Counsel for Regulations.

[FR Doc. 2010-23735 Filed 9-22-10; 8:45 am]

BILLING CODE 4910-13-P